DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Primary and Behavioral Health Care Integration Program (OMB No. 0930-0340)—Revision

The Substance Abuse and Mental Health Services Administration's (SAMHSA) Center for Mental Health Services, (CMHS) is requesting a revision from the Office of Management and Budget (OMB) for data collection activities associated with their Primary and Behavioral Health Care Integration (PBHCI) Program. Specifically, SAMHSA is requesting approval to only collect information on grantee quarterly reports.

The purpose of the PBHCI grant program is to improve the overall wellness and physical health status of people with serious mental illnesses (SMI), including individuals with co-occurring substance use disorders, by supporting communities to coordinate and integrate primary care services into publicly-funded community mental health and other community-based behavioral health settings. The program's goal is to improve the physical health status of adults with serious mental illnesses (and those with co-occurring substance use disorders) who have or are at risk for co-occurring primary care conditions and chronic diseases. The program's objective is to support the triple aim of improving the health of those with SMI; enhancing the client's experience of care (including quality, access, and reliability); and reducing/controlling the per capita cost of care.

New questions added to the quarterly report will include information on the selected evidence based practices (EBPs) for nutrition and tobacco cessation (including the number of participants and their outcomes), identifying the selected blood pressure treatment protocol (one of four recommended by the Centers for Disease Control and Prevention), and updating the chart on the identified sub-population(s) on physical health indicators in the disparities impact statement section of the quarterly report.

This information collection is needed to provide SAMHSA with sufficient information to monitor grantee performance and to assess whether integrated primary care services produce improvements in the physical health of the SMI population receiving services from community-based behavioral health agencies.

Collection of the information included in this request is authorized by Section 505 of the Public Health Service Act (42 U.S.C. 290aa-4)—Data Collection. Authorization for the PBHCI program is provided under Section 5604 of H.R. 3590, the Affordable Care Act (ACA), which authorizes SAMHSA to provide awards for the co-location of primary and specialty care in community-based mental health settings.

The table below reflects the annualized hourly burden.

Instrument | Number of respondents | Responses per respondent | Total responses | Hours per response per respondent | Total hour burden
Grantee Quarterly Report | 172 | 4 | 688 | 2 | 1,376

Written comments and recommendations concerning the proposed information collection should be sent by July 16, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-14729 Filed 6-15-15; 8:45 am]

BILLING CODE 4162-20-P